DEPARTMENT OF VETERANS AFFAIRS

[OMB Control No. 2900-New (VA Form 4939)]

Agency Information Collection (Complaint of Employment Discrimination) Activities Under OMB Review

AGENCY: Office of Human Resources and Administration, Department of Veterans Affairs.

ACTION: Notice.

SUMMARY: In compliance with the Paperwork Reduction Act (PRA) of 1995 (44 U.S.C. 3501-21), this notice announces that the Office of Human Resources and Administration (OHR&A), Department of Veterans Affairs, has submitted the collection of information abstracted below to the Office of Management and Budget (OMB) for review and comment. The PRA submission describes the nature of the information collection and its expected cost and burden; it includes the actual data collection instrument.

DATES: Comments must be submitted on or before August 22, 2008.

ADDRESSES: Submit written comments on the collection of information through http://www.Regulations.gov; or to VA's OMB Desk Officer, OMB Human Resources and Housing Branch, New Executive Office Building, Room 10235, Washington, DC 20503 (202) 395-7316. Please refer to “OMB Control No. 2900-New (VA Form 4939)” in any correspondence.

FOR FURTHER INFORMATION OR A COPY OF THE SUBMISSION CONTACT: Denise McLamb, Records Management Service (005R1B), Department of Veterans Affairs, 810 Vermont Avenue, NW., Washington, DC 20420, (202) 461-7485, FAX (202) 273-0443 or e-mail: denise.mclamb@mail.va.gov. Please refer to “OMB Control No. 2900-New (VA Form 4939).”

SUPPLEMENTARY INFORMATION: Title: Complaint of Employment Discrimination, VA Form 4939.

OMB Control Number: 2900-New (VA Form 4939).

Type of Review: Existing collection in use without an OMB control number.

Abstract: VA employees, former employees and applicants for employment who believe they were denied employment based on race, color, religion, gender, national origin, age, physical or mental disability and/ or reprisal for prior Equal Employment Opportunity activity complete VA Form 4939 to file complaint of discrimination.

An agency may not conduct or sponsor, and a person is not required to respond to a collection of information unless it displays a currently valid OMB control number. The Federal Register Notice with a 60-day comment period soliciting comments on this collection of information was published on May 14, 2008, at page 27896.

Affected Public: Individuals or households.

Estimated Annual Burden: 162 hours.

Estimated Average Burden per Respondent: 30 minutes.

Frequency of Response: One time.

Estimated Number of Respondents: 324.

Dated: July 15, 2008.
By direction of the Secretary.
Denise McLamb,
Records Management Service.

[FR Doc. E8-16801 Filed 7-22-08; 8:45 am]

BILLING CODE 8320-01-P